DEPARTMENT OF STATE

[Public Notice: 8940]

60-Day Notice of Proposed Information Collection: Supplemental Nonimmigrant Visa Application

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES(S): The Department will accept comments from the public up to January 9, 2015.

ADDRESSES:

You may submit comments by any of the following methods:

• Web: Persons with access to the Internet may use the Federal Docket Management System (FDMS) to comment on this notice by going to www.Regulations.gov. You can search for the document by entering “Public Notice 8940” in the Search bar. If necessary, use the Narrow by Agency filter option on the Results page.

• Email: PRA_BurdenComments@state.gov.

You must include the DS form number (if applicable), information collection title, and the OMB control number in any correspondence.

FOR FURTHER INFORMATION CONTACT: Direct requests for additional information regarding the collection listed in this notice, including requests for copies of the proposed collection instrument and supporting documents, to Sydney Taylor, who may be reached at PRA_BurdenComments@state.gov.

SUPPLEMENTARY INFORMATION:

• Title of Information Collection: Supplemental Nonimmigrant Visa Application.

• OMB Control Number: 1405-0134.

• Type of Request: Extension of a Currently Approved Form.

• Originating Office: CA/VO/L/R.

• Form Number: DS-157.

• Respondents: Iraq and Afghan Foreign Nationals applying for Special Immigrant Visa Program.

• Estimated Number of Respondents: 6,589 respondents.

• Estimated Number of Responses: 6,589 responses.

• Average Time Per Response: 1 hour.

• Total Estimated Burden Time: 6,589 hours.

• Frequency: Once.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

Form DS-157 (Supplemental Nonimmigrant Visa Application) was previously used in conjunction with the DS-156 (Nonimmigrant Visa Application, OMB #1405-0018) to fulfill the legal requirements for Special Immigrant Visas (SIVs). However, the Department is requesting a reinstatement of the DS-157 in order for this form to be used by Iraqi and Afghan special immigrant visa applicants to obtain Chief of Mission Approval for the SIV Program. This form will only be used until the expiration of the SIV program.

Methodology:

Applicants are required to complete the DS-157, along with other required documentation, and to submit their package to the appropriate SIV email address.

Additional Information:

This form is only to be used in the SIV application process by Afghan and Iraqi foreign nationals who have been employed by or on behalf of the U.S. Government in Iraq or Afghanistan and meet the eligibility requirements for participation in the SIV program.

Dated: October 16, 2014.
Edward Ramotowski,
Deputy Assistant Secretary, Bureau of Consular Affairs, Department of State.

[FR Doc. 2014-26636 Filed 11-7-14; 8:45 am]

BILLING CODE 4710-06-P